DEPARTMENT OF THE INTERIOR

Bureau of Indian Affairs

[245A2100DD/AAKC001030/A0A501010.999900]

Notice of Availability of a Draft Environmental Impact Statement and Draft Conformity Determination for the Koi Nation of Northern California's Proposed Shiloh Resort and Casino Project, Sonoma County, California

AGENCY: Bureau of Indian Affairs, Interior.

ACTION: Notice of Availability.

SUMMARY: This notice advises the public that the Bureau of Indian Affairs (BIA), as lead agency, with the National Indian Gaming Commission (NIGC) and United States Environmental Protection Agency (EPA) serving as cooperating agencies, has filed a Draft Environmental Impact Statement (DEIS) with the EPA in connection with the Koi Nation of Northern California's (Koi Nation) application for acquisition in trust by the United States of approximately 68.60 acres adjacent to the Town of Windsor, Sonoma County, California for gaming and other purposes. This notice also announces that the DEIS is now available for public review and that a public hearing will be held to receive comments on the DEIS. In accordance with section 176 of the Clean Air Act and the EPA's general conformity regulations, a Draft Conformity Determination (DCD) has been prepared for the Shiloh Resort and Casino Project. The DCD is contained within appendix F-2 of the DEIS.

DATES: Comments on the DEIS or DCD must arrive no later than 45 days after publication of Notice of Availability by the EPA in the Federal Register. The time and date of the virtual public hearing will be announced at least 15 days in advance through a notice to be published in a local newspaper (The Press Democrat) and online at https://www.shilohresortenvironmental.com/.

ADDRESSES: You may send written comments by any of the following methods:

• Mail or Hand-Delivery: Amy Dutschke, Regional Director, Bureau of Indian Affairs, Pacific Region, 2800 Cottage Way, Sacramento, California 95825. Please include your name, return address, and “DEIS Comments, Shiloh Resort and Casino Project” on the first page of your written comments.

• Email: chad.broussard@bia.gov. Please use “DEIS Comments, Shiloh Resort and Casino Project” as the subject of your email.

The DEIS is available for public review at the following locations:

• Bureau of Indian Affairs, Pacific Region, 2800 Cottage Way, Sacramento, California 95825 (with advance notice and during regular business hours).

• Windsor Regional Library located at 9291 Old Redwood Hwy. #100, Windsor, CA 95492, telephone (707) 838-1020 (during regular business hours).

• https://www.shilohresortenvironmental.com/.

FOR FURTHER INFORMATION CONTACT: Chad Broussard, Environmental Protection Specialist, Bureau of Indian Affairs, Pacific Regional Office, 2800 Cottage Way, Room W-2820, Sacramento, California 95825; telephone: (916) 978-6165; email: chad.broussard@bia.gov. Information is also available online at https://www.shilohresortenvironmental.com/.

SUPPLEMENTARY INFORMATION: Public review of the DEIS is part of the administrative process for the evaluation of the Koi Nation's application to the BIA for the placement of approximately 68.60 acres of fee land in trust by the United States. The proposed trust property is Sonoma County assessor's parcels number 059-300-003 and is located adjacent to the Town of Windsor, Sonoma County, California. The Koi Nation proposes to construct a casino resort on the property.

The BIA previously prepared an EA that analyzed the potential environmental effects of the proposed action. The EA was made available for public comments and was the subject of a public meeting. Upon consideration of the public and agency comments received, the BIA has decided to prepare an EIS to further analyze the environmental effects which may result from the proposed action. A Notice of Intent (NOI) to prepare an EIS was published in the Federal Register and The Press Democrat on March 8, 2024.

Background: The Koi Nation's proposed project consists of the following components: (1) transfer of the 68.6-acre Project Site into federal trust status for the benefit of the Koi Nation for gaming purposes (Proposed Action); and (2) the subsequent development by the Koi Nation of a resort facility that includes a casino, hotel, ballroom/meeting space, event center, spa, and associated parking and infrastructure on the Project Site (Proposed Project). The following alternatives are considered in the DEIS: (A) Proposed Project; (B) Reduced Intensity Alternative; (C) Non-Gaming Alternative; and (D) No Action Alternative. Environmental issues addressed in the DEIS include land resources; water resources; air quality and climate change; noise; biological resources; cultural and paleontological resources; transportation and circulation; land use; hazardous materials and hazards; public services and utilities; socioeconomics; environmental justice; visual resources; and cumulative, indirect, and growth-inducing effects.

Public Comment Availability: Comments, including names and addresses of respondents, will be included as part of the administrative record and will be available for review at the BIA Pacific Regional Office by appointment by contacting Chad Broussard, Bureau of Indian Affairs, Pacific Regional Office (see contact information listed in the FOR FURTHER INFORMATION CONTACT section of this notice). Before including your address, telephone number, email address, or other personal identifying information in your comment, you should be aware that your entire comment—including your personal identifying information—may be made publicly available at any time. While you can ask in your comment that your personal identifying information be withheld from public review, the BIA cannot guarantee that this will occur.

Authority: This notice is published pursuant to section 1503.1 of the Council of Environmental Quality Regulations (40 CFR parts 1500 through 1508) and section 46.305 of the Department of the Interior Regulations (43 CFR part 46), implementing the procedural requirements of the NEPA, as amended (42 U.S.C. 4371, et seq.), and in accordance with the exercise of authority delegated to the Assistant Secretary—Indian Affairs by 209 DM 8. This notice is also published in accordance with 40 CFR 93.155, which provides reporting requirements for conformity determinations.

Wizipan Garriott,
Principal Deputy Assistant Secretary—Indian Affairs, Exercising by Delegation the Authority of the Assistant Secretary—Indian Affairs.

[FR Doc. 2024-14783 Filed 7-5-24; 8:45 am]

BILLING CODE 4337-15-P